DEPARTMENT OF TRANSPORTATION

Federal Railroad Administration

[Docket Number FRA-2017-0084]

Petition for Extension of Waiver of Compliance

Under part 211 of title 49 Code of Federal Regulations (CFR), this document provides the public notice that by letter dated December 28, 2022, Norfolk Southern Corporation (NS) petitioned the Federal Railroad Administration (FRA) for an extension of a waiver of compliance from certain provisions of the Federal railroad safety regulations contained at 49 CFR part 214 (Railroad Workplace Safety). The relevant FRA Docket Number is FRA-2017-0084.

Specifically, NS requests to extend its relief from § 214.336(c), On-track safety procedures for certain roadway work groups and adjacent tracks, as it pertains to procedures for adjacent controlled track movements at 25 miles per hour (mph) or less.

NS indicates this request is specific to a unique working group, the R-3 Dual Rail Gang (R-3 Gang), and the relief would only apply to this group. This group is a system-level production gang comprised of 78 employees and 40 roadway maintenance machines with the capability to remove both rails while simultaneously installing both new rails. NS seeks relief from the requirement of using the gauge position of the rail as the point for the plane that is not to be broken on the occupied track. Instead, NS seeks to use the removed rails of the occupied track as an envelope for on-ground work performed exclusively between these rails for the employees working in the R-3 Gang. NS asserts the R-3 Gang's work can be performed safely. Additionally, NS seeks relief from the requirement that on-ground work be performed exclusively between the rails (i.e., not breaking the plane of the rails) of the occupied track. NS seeks to extend its relief to allow up to 4 on-ground employees (when working with one adjacent controlled track) and up to 8 on-ground employees (when working with two adjacent controlled tracks) of the R-3 Gang to break the plane of the outside rail to perform minor work.

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted at http://www.regulations.gov. Follow the online instructions for submitting comments.

Communications received by April 28, 2023 will be considered by FRA before final action is taken. Comments received after that date will be considered if practicable.

Anyone can search the electronic form of any written communications and comments received into any of our dockets by the name of the individual submitting the comment (or signing the document, if submitted on behalf of an association, business, labor union, etc.). Under 5 U.S.C. 553(c), the U.S. Department of Transportation (DOT) solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2023-03901 Filed 2-24-23; 8:45 am]

BILLING CODE 4910-06-P